DEPARTMENT OF EDUCATION

[Docket No.: ED-2024-SCC-0110]

Agency Information Collection Activities; Submission to the Office of Management and Budget for Review and Approval; Comment Request; Regional Educational Laboratory Midwest: Teacher Preparation Program Completion: What Factors Play a Role?

AGENCY: Institute of Education Sciences (IES), Department of Education (ED).

ACTION: Notice.

SUMMARY: In accordance with the Paperwork Reduction Act (PRA) of 1995, the Department is proposing a new information collection request (ICR).

DATES: Interested persons are invited to submit comments on or before January 15, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Christopher Boccanfuso, (202) 219-0373.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Regional Educational Laboratory Midwest: Teacher Preparation Program Completion: What Factors Play a Role?

OMB Control Number: 1850-NEW.

Type of Review: New ICR.

Respondents/Affected Public: Individuals or Households.

Total Estimated Number of Annual Responses: 421.

Total Estimated Number of Annual Burden Hours: 220.

Abstract: The U.S. Department of Education seeks clearance for the recruitment and data collection protocols for the Regional Educational Laboratory (REL) Midwest research study, Teacher Preparation Program Completion: What Factors Play a Role? The study, scheduled for the 2024/25 school year, will focus on understanding factors influencing the completion of traditional undergraduate teacher preparation programs. This is crucial as traditional teacher preparation programs are the main sources of new teachers, yet the number of bachelor's degrees in education has declined by 18 percent between 2010 and 2020.

This study aims to address two main research questions: (1) How do the demographic and academic characteristics of students in traditional undergraduate teacher preparation programs differ between completers and noncompleters? and (2) How do personal and contextual factors relate to students' completion of traditional teacher preparation programs?

The study will collect quantitative survey data and qualitative interview data from students who completed and did not complete traditional undergraduate teacher preparation programs, supplemented by administrative data from teacher preparation programs. This approach will allow the study to gather information on personal and contextual factors not captured in administrative data, such as the ability to complete unpaid student teaching, perceptions of the teaching profession, and other intrinsic motivations and external conditions that influence completion.

The urgency to improve teacher candidate retention and graduation rates is driven by long-standing teacher shortages and a desire to increase racial/ethnic and gender diversity in the teacher workforce to mirror the composition of K-12 students in the United States. Findings from this study aim to inform program and policy-level solutions to support teaching candidates, particularly those from diverse backgrounds, ensuring they persist through their teacher preparation programs.

Dated: December 11, 2024.
Juliana Pearson,
PRA Coordinator, Strategic Collections and Clearance Governance and Strategy Division, Office of Chief Data Officer, Office of Planning, Evaluation and Policy Development.

[FR Doc. 2024-29563 Filed 12-13-24; 8:45 am]

BILLING CODE 4000-01-P